DEPARTMENT OF ENERGY

Federal Energy Regulatory Commission

[Docket No. CP21-496-000; Docket No. CP23-518-000]

NFEnergía LLC; Notice of Intent To Prepare an Environmental Impact Statement for the San Juan Micro-Fuel Handling Facility Project, Request for Comments on Environmental Issues, Notice of Public Scoping Session, and Schedule for Environmental Review

The staff of the Federal Energy Regulatory Commission (FERC or Commission) will prepare an environmental impact statement (EIS) that will discuss the environmental impacts of the San Juan Micro-Fuel Handling Facility Project (Project) involving operation of facilities by NFEnergía LLC (NFEnergía) in San Juan, Puerto Rico.¹ The Commission will use this EIS in its decision-making process to determine whether the Project is in the public interest. The schedule for preparation of the EIS is discussed in the Schedule for Environmental Review section of this notice.

¹ In accordance with the Council on Environmental Quality's regulations, the unique identification number for documents relating to this environmental review is EISX-019-20-000-1728388200. 40 CFR 1502.4(e)(10) (2024).

This notice announces the opening of the scoping process the Commission will use to gather input from the public and interested agencies regarding the Project. As part of the National Environmental Policy Act (NEPA) review process, the Commission takes into account concerns the public may have about proposals and the environmental impacts that could result from its action whenever it considers the issuance of an authorization. This gathering of public input is referred to as “scoping.” The main goal of the scoping process is to focus the analysis in the environmental document on the important environmental issues. Additional information about the Commission's NEPA process is described below in the NEPA Process and the EIS section of this notice.

By this notice, the Commission requests public comments on the scope of issues to address in the environmental document, including comments on potential alternatives and impacts, and any relevant information, studies, or analyses of any kind concerning impacts affecting the quality of the human environment. To ensure that your comments are timely and properly recorded, please submit your comments so that the Commission receives them in Washington, DC, on or before 5:00 p.m. Eastern Time on November 25, 2024. Comments may be submitted in written or oral form. Further details on how to submit comments are provided in the Public Participation section of this notice.

Public Participation

There are four methods you can use to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to FERC Online. Using eComment is an easy method for submitting brief, text-only comments on a project;

(2) You can file your comments electronically by using the eFiling feature, which is also located on the Commission's website (www.ferc.gov) under the link to FERC Online. With eFiling, you can provide comments in a variety of formats by attaching them as a file with your submission. New eFiling users must first create an account by clicking on “eRegister.” You will be asked to select the type of filing you are making; a comment on a particular project is considered a “Comment on a Filing”;

(3) You can file a paper copy of your comments by mailing them to the Commission. Be sure to reference the Project docket numbers (CP21-496-000 and/or CP23-518-000) on your letter. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852; or

(4) In lieu of sending written comments, the Commission invites you to attend one of two public scoping sessions its staff will conduct in the Project area, scheduled as follows:

Date and time | Location
Monday, November 18, 2024; 11:00 a.m. to 1:00 p.m. and 4:30 p.m. to 7:30 p.m | Hyatt Place San Juan, 580 Fernandez Juncos Avenue, San Juan, Puerto Rico 00907.

The primary goal of these scoping sessions is to have you identify the specific environmental issues and concerns that should be considered in the environmental document. There will not be a formal presentation by Commission staff when the session opens. Individual oral comments will be taken on a one-on-one basis with a court reporter. This format is designed to receive the maximum amount of oral comments in a convenient way during the timeframe allotted.

The scoping sessions are scheduled from 11:00 a.m. to 1:00 p.m. and 4:30 p.m. to 7:30 p.m. Eastern Standard Time. You may arrive at any time after 11:00 a.m. for the midday session and after 4:30 p.m. for the evening session. If you wish to provide a comment, the Commission staff will hand out numbers in the order of your arrival. Comments will be taken until 1:00 p.m. for the midday session and 7:30 p.m. for the evening session. Please see appendix 1 for additional information on the session format and conduct.²

² The appendices referenced in this notice will not appear in the Federal Register. Copies of the appendices were sent to all those receiving this notice in the mail and are available at www.ferc.gov using the link called “eLibrary”. For instructions on connecting to eLibrary, refer to the last page of this notice. For assistance, contact FERC at FERCOnlineSupport@ferc.gov or call toll free, (886) 208-3676 or TTY (202) 502-8659.

Your oral comments will be recorded by a court reporter (with FERC staff or representative present) and become part of the public record for this proceeding. Transcripts will be publicly available on FERC's eLibrary system (see the last page of this notice for instructions on using eLibrary). If a significant number of people are interested in providing oral comments in the one-on-one settings, a time limit of 3 minutes may be implemented for each commentor. Although there will not be a formal presentation, Commission staff will be available throughout the scoping session to answer your questions about the environmental review process. FERC will have Spanish interpreters on site at the public scoping sessions. It is important to note that the Commission provides equal consideration to all comments received, whether filed in written form or provided orally at a scoping session.

Additionally, the Commission offers a free service called eSubscription. This service provides automatic notification of filings made to subscribed dockets, document summaries, and direct links to documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Summary of the Proposed Project, the Project Purpose and Need, and Expected Impacts

NFEnergía proposes to continue operation of its liquefied natural gas (LNG) import and regasification facility (i.e., the Project). The Project is on approximately 6.1 paved and fenced acres of an industrial area at Wharves A and B of the Puerto de San Juan (“Port of San Juan”), Puerto Rico, which is within existing industrial uses in northern Puerto Rico where it can supply natural gas. To operate the Project, shuttle LNG vessels bring LNG into the San Juan Harbor where the LNG is transferred from these vessels to a non-jurisdictional floating storage unit vessel that is semi-permanently moored adjacent to the Project site. The floating storage unit vessel transfers LNG onshore where some LNG is loaded onto trucks for over-the-road delivery to end users and the remaining LNG is regasified and made available to Units 5 and 6 of the adjacent San Juan Power Plant using an existing 75-foot-long, 10-inch-diameter segment of power plant piping. The Project has a regasification capacity of 120 million standard cubic feet per day (MMscfd) of natural gas and a truck loading capacity of 87.52 MMscfd of natural gas (or approximately 1,060,000 gallons of LNG) per day. In addition, NFEnergía constructed and operates a 220-foot-long, 10-inch-diameter pipeline at its LNG facility. NFEnergía stated that the pipeline was necessary to supply natural gas to the U.S. Army Corps of Engineers' emergency temporary generation project.³

³ The temporary generation project is part of the ongoing efforts of the Puerto Rico Grid Stabilization Task Force, a joint operation between the U.S. Army Corps of Engineers, Environmental Protection Agency, Department of Energy, and Federal Emergency Management Agency that is charged with restoring Puerto Rico's power system reliability.

NFEnergía's stated purpose of the Project is to continue achieving the following:

• meeting existing demand for imported natural gas for delivery to Puerto Rico commercial and utility customers;

• supporting grid stability in Puerto Rico;

• meeting fuel supply obligations for natural gas-fired electric generation to maintain Puerto Rico's fuel diversity and energy supplies in Puerto Rico;

• enabling electric generation that supports improvements in air quality in the San Juan region, reduces sulfur dioxide emissions, and supports Puerto Rico Electric Power Authority's efforts to achieve regional emissions reductions; and

• reducing electricity rates and fuel costs for NFEnergía's customers.

NFEnergía proposes to continue operating its Project at Wharves A and B of the Port of San Juan, Puerto Rico. The general location of the Project facilities is shown in appendix 2. Commission staff have identified several expected impacts that deserve attention in the EIS. These resources include air quality, noise, and safety. The Project impact analysis is limited to operational impacts of the existing facility.

The NEPA Process and the EIS

The EIS issued by the Commission will discuss impacts that could occur as a result of the operation of the Project under the relevant general resource areas:

• geology and soils;

• water resources and wetlands;

• vegetation and wildlife;

• essential fish habitat;

• threatened and endangered species;

• cultural resources;

• socioeconomics and environmental justice;

• land use;

• air quality and noise; and

• reliability and safety.

Commission staff will also make recommendations on how to lessen or avoid impacts on the various resource areas. Your comments will help Commission staff focus its analysis on the issues that may have a significant effect on the human environment.

The EIS will present Commission staff's independent analysis of the issues. The U.S. Coast Guard, and the U.S. Department of Transportation's Pipeline and Hazardous Materials Safety Administration are cooperating agencies in the preparation of the EIS.⁴ Staff will prepare a draft EIS which will be issued for public comment. Commission staff will consider all timely comments received during the comment period on the draft EIS and revise the document, as necessary, before issuing a final EIS. Any draft and final EIS will be available in electronic format in the public record through eLibrary ⁵ and the Commission's natural gas environmental documents web page (https://www.ferc.gov/industries-data/natural-gas/environment/environmental-documents). If eSubscribed, you will receive instant email notification when the environmental document is issued.

⁴ The Council on Environmental Quality regulations addressing cooperating agency responsibilities are at title 40 Code of Federal Regulations (CFR), section 1501.8. (2024).

⁵ For instructions on connecting to eLibrary, refer to the last page of this notice.

Alternatives Under Consideration

The EIS will evaluate reasonable alternatives that are technically and economically feasible and meet the purpose and need for the proposed action.⁶ With this notice, the Commission requests specific comments regarding any additional potential alternatives to the proposed action or segments of the proposed action. Please focus your comments on reasonable alternatives (including alternative facility sites) that meet the Project objectives, are technically and economically feasible, and avoid or lessen environmental impact.

⁶ 40 CFR 1508.1(hh) (2024).

Consultation Under Section 106 of the National Historic Preservation Act

In accordance with the Advisory Council on Historic Preservation's implementing regulations for section 106 of the National Historic Preservation Act, the Commission is using this notice to initiate consultation with the applicable State Historic Preservation Office(s), and other government agencies, interested Indian tribes, and the public to solicit their views and concerns regarding the Project's potential effects on historic properties.⁷ The Project EIS will document findings on the impacts on historic properties and summarize the status of consultations under section 106.

⁷ The Advisory Council on Historic Preservation's regulations are at title 36, Code of Federal Regulations, part 800. Those regulations define historic properties as any prehistoric or historic district, site, building, structure, or object included in or eligible for inclusion in the National Register of Historic Places.

Schedule for Environmental Review

On September 29, 2021, the Commission issued its Notice of Application for the Project. Among other things, that notice alerted other agencies issuing Federal authorizations of the requirement to complete all necessary reviews and to reach a final decision on the request for a Federal authorization within 90 days of the date of issuance of the Commission staff's final EIS for the Project. This notice identifies the Commission staff's planned schedule for completion of the final EIS for the Project, which is based on an issuance of the draft EIS in May 2025, opening a 45-day comment period.

Issuance of Notice of Availability of the final EIS—November 7, 2025

90-day Federal Authorization Decision Deadline ⁸—February 5, 2026

⁸ The Commission's deadline applies to the decisions of other Federal agencies, and State agencies acting under federally delegated authority, that are responsible for Federal authorizations, permits, and other approvals necessary for proposed projects under the Natural Gas Act. Per 18 CFR 157.22(a), the Commission's deadline for other agency's decisions applies unless a schedule is otherwise established by Federal law.

In accordance with the Council on Environmental Quality's regulations, for EISs, agencies are to make schedules for completing the NEPA process publicly available.⁹ This notice identifies the Commission's anticipated schedule for issuance of the final order for the Project, which serves as the Commission's record of decision. We currently anticipate issuing a final order for the Project no later than:

⁹ 40 CFR 1501.10(h) (2024).

Issuance of Final Order—February 19, 2026

If a schedule change becomes necessary, an additional notice will be provided so that the relevant agencies are kept informed of the Project's progress.

Permits and Authorizations

The table below lists the issued and anticipated permits and authorizations for the Project required under Federal law. This list may not be all-inclusive and does not preclude any permit or authorization if it is not listed here. Agencies with jurisdiction by law and/or special expertise may formally cooperate in the preparation of the Commission's EIS and may adopt the EIS to satisfy its NEPA responsibilities related to this Project. Agencies that would like to request cooperating agency status should follow the instructions for filing comments provided under the Public Participation section of this notice.

Agency | Permit
Federal Energy Regulatory Commission | Natural Gas Act Section 3 Order of Authorization.
U.S. Department of Energy | Order to Import under Section 3 of the Natural Gas Act.
U.S. Environmental Protection Agency | Vessel General Permit under the Vessel Incidental Discharge Act.
United States Fish and Wildlife Service | Consultation under Section 7 of the Endangered Species Act, the Migratory Bird Treaty Act, and the Bald and Gold Eagle Protection Act.
National Marine Fisheries Service | Consultation under Section 7 of the Endangered Species Act.
National Marine Fisheries Service | Magnuson-Stevens Fishery Conservation and Management Act Consultation on Essential Fish Habitat.
Puerto Rico Planning Board | Coastal Zone Management Consistency Determination.
U.S. Coast Guard | Letter of Recommendation and Facility Security Plan Approval.
U.S. Department of Defense | Consultation for Effect on Military Installation.
U.S. Army Corps of Engineers | Clean Water Act Section 404 Permit/Section 408 Permit/Rivers and Harbors Act Section 10 Permit/Marine Protection, Research, and Sanctuaries Act, Section 103.
Department of Environmental Quality | Clean Water Act Section 401, Water Quality Certification/NPDES Stormwater Discharge Permits/Clean Air Act, Air Permit/40 CFR 52 Greenhouse Gas Tailoring Rule Permits.
Puerto Rico State Historic Preservation Officer | Consultation under Section 106 of the National Historic Preservation Act.

Environmental Mailing List

This notice is being sent to the Commission's current environmental mailing list for the Project which includes: Federal and local government representatives and agencies; elected officials; environmental and public interest groups; Native American tribes; other interested parties; and local libraries and newspapers. This list also includes all affected landowners (as defined in the Commission's regulations) who own homes within certain distances of aboveground facilities, and anyone who submits comments on the Project and includes a mailing address with their comments. Commission staff will update the environmental mailing list as the analysis proceeds to ensure that Commission notices related to this environmental review are sent to all individuals, organizations, and government entities interested in and/or potentially affected by the proposed Project. Puerto Rico and local government representatives should notify their constituents of this proposed Project and encourage them to comment on their areas of concern.

If you need to make changes to your name/address, or if you would like to remove your name from the mailing list, please complete one of the following steps:

(1) Send an email to GasProjectAddressChange@ferc.gov stating your request. You must include the docket number CP21-496-000 and/or CP23-518-000 in your request. If you are requesting a change to your address, please be sure to include your name and the correct address. If you are requesting to delete your address from the mailing list, please include your name and address as it appeared on this notice. This email address is unable to accept comments.

OR

(2) Return the attached “Mailing List Update Form” (appendix 3).

Additional Information

Additional information about the Project is available from the Commission's Office of External Affairs, at (866) 208-FERC, or on the FERC website at www.ferc.gov using the eLibrary link. Click on the eLibrary link, click on “General Search” and enter the docket number in the “Docket Number” field (i.e., CP21-496-000 and/or CP23-518). Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

Public sessions or site visits will be posted on the Commission's calendar located at https://www.ferc.gov/news-events/events along with other related information.

Dated: October 25, 2024.
Debbie-Anne A. Reese,
Secretary.

[FR Doc. 2024-25431 Filed 10-31-24; 8:45 am]

BILLING CODE 6717-01-P